DEPARTMENT OF COMMERCE

International Trade Administration

[A-533-875]

Fine Denier Polyester Staple Fiber from India: Final Results of Antidumping Duty Administrative Review; 2019-2020

AGENCY: Enforcement and Compliance, International Trade Administration, Department of Commerce.

SUMMARY: The Department of Commerce (Commerce) assigned Reliance Industries Limited (RIL), the sole respondent subject to this antidumping duty (AD) administrative review, a dumping margin based on total adverse facts available (AFA). The period of review (POR) is July 1, 2019, through June 30, 2020.

DATES: Applicable November 12, 2021.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On July 22, 2021, Commerce published in the Federal Register the preliminary results of this administrative review of the AD order on fine denier polyester staple fiber (fine denier PSF) from India.¹ Although we provided interested parties with an opportunity to comment on the Preliminary Results, no interested party submitted comments. Accordingly, no decision memorandum accompanies this Federal Register notice.²

¹ See Fine Denier Polyester Staple Fiber from India: Preliminary Results of Antidumping Duty Administrative Review; 2019-2020, 86 FR 38683 (July 22, 2021) (Preliminary Results), and the accompanying Preliminary Decision Memorandum (PDM).

² For further details on the issues addressed in this review, see Preliminary Results PDM.

Commerce conducted this administrative review in accordance with section 751(a) of the Tariff Act of 1930, as amended (the Act).

Scope of the Order ³

³ See Fine Denier Polyester Staple Fiber from the People's Republic of China and India: Amended Final Affirmative Countervailing Duty Determination for the People's Republic of China and Countervailing Duty Orders for the People's Republic of China and India, 83 FR 12149 (March 20, 2018) (Order).

The product covered by the Order is fine denier polyester staple fiber from India. For a complete description of the scope of the Order, see the Preliminary Decision Memorandum.

Changes Since the Preliminary Results

Rather than subtracting the export subsidy rate that Commerce determined in the 2017-2018 administrative review in the companion countervailing duty (CVD) proceeding ⁴ from the AFA rate assigned to RIL to derive its cash deposit rate, we subtracted the export subsidy rate calculated for RIL in the most recently completed segment of the companion CVD proceeding.⁵

⁴ See Fine Denier Polyester Staple Fiber from India: Final Results of Countervailing Duty Administrative Review; 2017-2018, 85 FR 86537 (December 30, 2020).

⁵ See Fine Denier Polyester Staple Fiber from India: Final Results of Countervailing Duty Administrative Review; 2019, 86 FR 50047 (September 7, 2021).

Use of Adverse Facts Available

We continue to find that the application of total AFA, pursuant to sections 776(a) and (b) of the Act, is warranted in determining RIL's dumping margin because it withheld information regarding its sales and cost reconciliations and potential affiliations, incorrectly reported control numbers, and provided unreliable and unusable sales and cost databases.⁶ Therefore, as in the Preliminary Results, as AFA, we assigned RIL a dumping margin of 21.43 percent. No interested party commented on this determination.

⁶ See Preliminary Results.

Commerce is not required to corroborate any dumping margin applied in a separate segment of the same proceeding. Because the 21.43 percent rate was applied in a separate segment of this proceeding, Commerce does not need to corroborate the rate in this review.

Final Results of the Review

The final estimated weighted-average dumping margin is as follows:

Exporter/producer | Estimated weighted-average dumping margin (percent) | Cash deposit rate adjusted for subsidy offset (percent) ⁷
Reliance Industries Limited | 21.43 | 19.33
⁷ We subtracted the 2.10 percent export subsidy rate that Commerce calculated in the most recently completed segment of the companion CVD proceeding (i.e., the final results of the 2019 administrative review), from the dumping margin of 21.43 percent.

Disclosure

Normally, Commerce discloses to parties to the proceeding the calculations that it performed in connection with the final results of an AD administrative review within five days after the date of any public announcement or, if there is no public announcement, within five days of the date of publication of the notice of final results in the Federal Register, in accordance with 19 CFR 351.224(b). However, because Commerce applied a dumping margin to RIL based entirely on AFA in accordance with section 776 of the Act, there are no calculations to disclose.

Assessment Rates

Pursuant to section 751(a)(2)(C) of the Act and 19 CFR 351.212(b), Commerce has determined, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of fine denier PSF from India entered, or withdrawn from warehouse, for consumption on or after the date of publication of this notice in the Federal Register, as provided for by section 751(a)(2)(C) of the Act: (1) The cash deposit rate for RIL will be equal to the weighted-average dumping margin, adjusted for the subsidy offset, from the table above; (2) for merchandise exported by manufacturers or exporters not covered in this review but covered in a prior segment of the proceeding, the cash deposit rate will continue to be the most recently established rate for the manufacturer or exporter in a completed segment of this proceeding; (3) if the exporter is not a firm covered in this review, a prior review, or the less-than-fair-value investigation, but the manufacturer is, the cash deposit rate will be the most recently established rate for the manufacturer of the merchandise in a completed segment of the proceeding; and (4) the cash deposit rate for all other manufacturers or exporters will continue to be 14.67 percent ad valorem, the all-others rate established in the less-than-fair-value investigation, adjusted for subsidy offsets.⁸ These cash deposit requirements, when imposed, shall remain in effect until further notice.

⁸ See Fine Denier Polyester Staple Fiber from India: Final Affirmative Antidumping Determination of Sales at Less Than Fair Value, 83 FR 24737 (May 30, 2018).

Notification to Importers

This notice serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information, disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

These final results of administrative review are issued and published in accordance with sections 751(a)(1) and 777(i)(1) of the Act, and 19 CFR 351.221(b)(5).

Dated: November 5, 2021.
Ryan Majerus,
Deputy Assistant Secretary for Policy and Negotiations, Performing the Non-Exclusive Functions and Duties of The Acting Assistant Secretary for Enforcement and Compliance.

[FR Doc. 2021-24642 Filed 11-10-21; 8:45 am]

BILLING CODE 3510-DS-P